SURFACE TRANSPORTATION BOARD

[Docket No. FD 36804]

Vermilion Valley Railroad Company, LLC—Operation Exemption—FNG Logistics Company

Vermilion Valley Railroad Company, LLC (VVRR), a Class III rail carrier, has filed a verified notice of exemption pursuant to 49 CFR 1150.41 to operate a rail line owned by FNG Logistics Company (FNG). The line extends approximately 5.91 miles between the Indiana/Illinois state boundary line at milepost 5.18 in Vermillion County, Ind., and the track's terminus at milepost 11.09 at Olin (near Covington) in Warren County, Ind. (the Line). VVRR states that it has operated the Line since 2003 pursuant to an agreement with FNG.

According to the verified notice, VVRR and FNG have entered into a new agreement, which extends the term of the last agreement between VVRR and FNG and amends certain economic terms of the parties' arrangement. Under the new agreement, VVRR will continue to operate the Line to provide common carrier rail service to all shippers on the Line, and to interchange traffic moving to and from the Line with CSX Transportation, Inc.

VVRR certifies that its annual projected revenues as a result of the transaction will not result in the creation of a Class II or Class I rail carrier and will not exceed $5 million. VVRR also states that the operation agreement does not involve any interchange commitments.

The earliest this transaction may be consummated is October 9, 2024, the effective date of the exemption.

If the verified notice contains false or misleading information, the exemption is void ab initio. Petitions to revoke the exemption under 49 U.S.C. 10502(d) may be filed at any time. The filing of a petition to revoke will not automatically stay the effectiveness of the exemption. Petitions for stay must be filed no later than October 2, 2024 (at least seven days before the exemption becomes effective).

All pleadings, referring to Docket No. FD 36804, must be filed with the Surface Transportation Board either via e-filing on the Board's website or in writing addressed to 395 E Street SW, Washington, DC 20423-0001. In addition, a copy of each pleading must be served on VVRR's representative, Terence M. Hynes, Sidley Austin LLP, 1501 K Street NW, Washington, DC 20005.

According to VVRR, this action is categorically excluded from environmental review under 49 CFR 1105.6(c) and from historic preservation reporting requirements under 49 CFR 1105.8(b).

Board decisions and notices are available at www.stb.gov.

Decided: September 20, 2024.
By the Board, Scott M. Zimmerman, Acting Director, Office of Proceedings.
Stefan Rice,
Clearance Clerk.

[FR Doc. 2024-22093 Filed 9-24-24; 8:45 am]

BILLING CODE 4915-01-P